DEPARTMENT OF COMMERCE

National Oceanic and Atmospheric Administration

RIN 0648-XC019

Endangered and Threatened Species; Take of Anadromous Fish

AGENCY: National Marine Fisheries Service (NMFS), National Oceanic and Atmospheric Administration (NOAA), Commerce.

ACTION: Applications for three new scientific research permits, two research permit renewals, and one permit modification.

SUMMARY: Notice is hereby given that NMFS has received six scientific research permit application requests relating to Pacific salmon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on June 8, 2012.

ADDRESSES: Written comments on the applications should be sent to the Protected Resources Division, NMFS, 1201 NE. Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Puget Sound (PS); threatened lower Columbia River (LCR); endangered upper Columbia River (UCR); threatened Snake River (SR) spring/sum (spr/sum); threatened SR fall;

Steelhead (O. mykiss): Threatened PS; threatened LCR; threatened UCR; threatened SR; threatened middle Columbia River (MCR).

Chum salmon (O. keta): Threatened Columbia River (CR).

Coho salmon (O. kisutch): Threatened LCR.

Eulachon: (Thaleichthys pacificus): Threatened southern distinct population segment (DPS)

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1135-7R

The United States Geological Survey (USGS) is requesting to renew its permit to take adult and juvenile LCR steelhead. The purpose of this study is to collect information on the survival, growth, habitat use, population density, health, and life-histories of steelhead in the Wind River subbasin of southern Washington. The research would provide information to help state, tribal, and Federal managers in their efforts to restore LCR steelhead populations and habitats. Permit 1135 has been in place for several years and recently expired on December 31, 2011. Adult and juvenile LCR steelhead would be observed and possibly harassed during snorkel and habitat surveys. Juvenile LCR steelhead would be collected (using backpack electrofishers, minnow traps, angling, seines, and weir traps), anesthetized, sampled for biological data (length, weight, disease status) and tissues/scales. The fish would then be allowed to recover from the anesthesia and released. In addition, some juvenile LCR steelhead would be tagged with passive integrated transponders (PIT-tags), some would be killed for pathological analyses, and a few more may die as an unintended result of the research.

Permit 1175-5R

The Gifford Pinchot National Forest (GPNF) is requesting to renew its permit to take juvenile PS Chinook salmon, PS steelhead, MCR steelhead, LCR Chinook salmon, LCR coho salmon, and LCR steelhead. The purpose of this research is to determine fish species presence and distribution, record fish habitat conditions, and inventory spawning areas on lands the GPNF administers. The information would be used in broad-scale analyses (e.g., watershed analysis) and project-level planning (e.g., timber sales and habitat restoration projects). The research would benefit listed salmonids by providing the GPNF with information to improve forest management. Permit 1175 has been in place for ten years and recently expired on December 31, 2011. The GPNF would observe/harass adult and juvenile salmonids during spawner and redd counts, snorkel surveys, and habitat surveys. The GPNF would also capture (using backpack electrofishing equipment or seines), handle, and release juvenile salmonids. The GPNF does not intend to kill any fish being captured, but a small number of fish may die as an unintentional result of the research activities.

Permit 16290-2M

The Oregon Department of Fish and Wildlife (ODFW) is seeking to modify its permit that currently allows it to annually take listed salmonids while conducting research on the Oregon chub. The ODFW is requesting to increase the number of juvenile fish they may take. The purpose of the research is to study the distribution, abundance, and factors limiting the recovery of Oregon chub. The ODFW would capture, handle, and release juvenile UWR Chinook salmon, UWR steelhead, LCR Chinook salmon, LCR steelhead, LCR coho salmon, and CR chum salmon while conducting the research. The Oregon chub is endemic to the Willamette Valley of Oregon and the habitats it depends on are also important to salmonids. Research on the Oregon chub would benefit listed salmonids by helping managers recover habitats the species share. The ODFW would use boat electrofishing equipment, minnow traps, beach seines, dip nets, hoop nets, and fyke nets to capture juvenile fish. Researchers would avoid contact with adult fish. If listed salmonids are captured during the research they would be released immediately. The researchers do not expect to kill any listed salmonids but a small number may die as an unintended result of the research activities.

Permit 16791

The United States Fish and Wildlife Service (FWS) is seeking a 5-year permit to take juvenile LCR coho salmon and steelhead during research designed to assess the distribution of coastal cutthroat trout in the lower Columbia River basin and establish a baseline dataset for long-term monitoring. The objectives are to (1) establish a random sampling protocol for coastal cutthroat trout, (2) determine coastal cutthroat trout distribution and abundance, (3) record baseline habitat parameters at all sample sites, and (4) determine if habitat parameters correlate to coastal cutthroat trout distribution and abundance. Research on coastal cutthroat trout would benefit listed salmonids by helping managers recover habitats the species share. Researchers would use backpack electrofishing equipment to capture fish. The FWS would immediately release listed salmon and steelhead. Researchers may also harass adult LCR Chinook and coho salmon during habitat surveys. The FWS does not intend to kill any listed salmonids but a small number of juvenile fish may die as an unintended result of the research activities.

Permit 16792

The FWS is seeking a 5-year permit to take juvenile LCR coho salmon and steelhead during research designed to assess the distribution of bull trout in the Lewis River, Washington. The objectives of the research are to (1) establish a random sampling protocol for bull trout, (2) determine bull trout distribution and abundance, (3) record baseline habitat parameters at all sample sites, and (4) determine if habitat parameters correlate to bull trout distribution and abundance. Research on bull trout would benefit listed salmonids by helping managers recover habitats the species share. Researchers would use backpack electrofishing equipment to capture fish. The FWS would immediately release listed salmon and steelhead. The FWS does not intend to kill any listed salmonids but a small number of juvenile fish may die as an unintended result of the research activities.

Permit 16866

The Oregon State University (OSU) Department of Fisheries and Wildlife is requesting a five-year research permit to take adult and juvenile UCR Chinook and steelhead, SR spr/sum and fall Chinook, SR steelhead, MCR steelhead, LCR Chinook, LCR coho, LCR steelhead, CR chum, and UWR Chinook and steelhead during the course of research designed to provide information on the dynamics and use of cold water refuges by anadromous salmon and other cold water species. The project would also take Southern DPS eulachon. The information would provide managers with a more rigorous understanding of thermal regimes in river systems and help guide conservation and restoration planning and species management. The study would benefit listed salmonids by helping determine whether (and how) the ecosystem services of cold water habitats can be quantified and incorporated into restoration and conservation programs. The OSU proposes to capture (using boat electrofishing), identify, measure, and release juvenile fish. Adult fish may be encountered but would not be netted. The OSU does not intend to kill any of the fish being captured, but a few may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 3, 2012.
Angela Somma,
Chief, Endangered Species Division, Office of Protected Resources, National Marine Fisheries Service.

[FR Doc. 2012-11205 Filed 5-8-12; 8:45 am]

BILLING CODE 3510-22-P